SURFACE TRANSPORTATION BOARD

[Docket No. EP 774 (Sub-No. 1)]

Notice of Passenger Rail Advisory Committee Vacancies

AGENCY: Surface Transportation Board.

ACTION: Notice of vacancies on federal advisory committee and solicitation of nominations.

SUMMARY: The Surface Transportation Board (Board) hereby gives notice of vacancies on its newly formed Passenger Railroad Advisory Committee (PRAC). The Board is soliciting nominations from the public for candidates to fill these vacancies.

DATES: Nominations for candidates for membership on the PRAC are due by February 5, 2024.

ADDRESSES: Nominations may be submitted either via the Board's e-filing format or in paper format. Any person using e-filing should attach a document and otherwise comply with the instructions at the E-FILING link on the Board's website, at http://www.stb.gov. Any person submitting a filing in paper format should send the original and 10 copies to: Surface Transportation Board, Attn: Docket No. EP 774 (Sub-No. 1), 395 E Street SW, Washington, DC 20423-0001.

FOR FURTHER INFORMATION CONTACT: Brian O'Boyle at 202-245-0364. If you require an accommodation under the Americans with Disabilities Act, please call (202) 245-0245.

SUPPLEMENTARY INFORMATION: By notice served on November 13, 2023, and published in the Federal Register on Nov. 13, 2023 (88 FR 77655), the Board announced the formation of the PRAC as a federal advisory committee to provide advice and recommendations to the Board on issues relating to passenger rail service. See Establishment of the Passenger Rail Advisory Comm., EP 774 (STB served Nov. 13, 2023). Matters on which the PRAC will advise the Board include improving efficiency on passenger rail routes; reducing disputes between passenger rail carriers and freight rail hosts regarding the use of freight rail carrier-owned facilities and infrastructure for passenger service, including passenger on-time performance issues; and improving regulatory processes related to intercity passenger rail to the benefit of the public, the communities served by passenger rail, and the environment. The PRAC operates under the Federal Advisory Committee Act (5 U.S.C. chapter 10).

The PRAC will consists of 18 voting members who comprise a balanced representation of individuals knowledgeable regarding passenger rail transportation, freight rail transportation, commuter rail operations, and transportation public policy. Members are selected by the Chair of the Board with the concurrence of a majority of the Board. The Chair of the Board may invite representatives from the U.S. Department of Transportation to serve on the PRAC in advisory capacities as ex officio (non-voting) members. The members of the Board also serve as ex officio members of the Committee. The PRAC will meet at least twice a year, and meetings are open to the public, consistent with the Government in the Sunshine Act, Public Law 94-409 (1976).

The PRAC was officially formed on November 29, 2023, and currently has no members. The Board is therefore soliciting nominations from the public for candidates to fill every PRAC vacancy. The members of the PRAC will regularly serve a term of three years. However, under the PRAC charter,¹ half of the initial PRAC members will serve a term of two years as designated by the Chair of the Board at the time of appointment. See PRAC Charter art. 12.a.vii.² By letter dated December 28, 2023, the Chair of the Board has designated which initial PRAC members will serve for three-year and two-year terms. A copy of this letter is available on the PRAC website. Members of the PRAC are appointed to serve in a representative capacity.

¹ A copy of the PRAC charter is available on the Board's website at: https://www.stb.gov/resources/stakeholder-committees/prac/.

² Under the PRAC charter, members may serve an additional term with approval from the Chair of the Board, without needing to be renominated for that additional term. See PRAC Charter art. 12.a.viii. Any member of the PRAC who has served for two consecutive terms will be required to be renominated for membership and appointed by the Chair of the Board should they wish to serve for additional terms. If reappointed, that individual may serve two additional terms before being required to be renominated. See id., art. 12.a.ix.

The vacancies and initial term lengths are as follows:

• Two representatives from the National Railroad Passenger Corporation (Amtrak).

○ One representative will serve an initial three-year term. The other representative will serve an initial two-year term.

• Two representatives from commuter rail operators whose operations use facilities owned and/or utilized by (i) Amtrak, (ii) other intercity passenger rail operators, or (iii) rail freight operators (for purposes of ensuring geographic diversity within PRAC's membership, these representatives cannot be from the same state as any of the state representatives described below and cannot be from the same state as each other).

○ One representative will serve an initial three-year term. The other representative will serve an initial two-year term.

• Two representatives from existing intercity passenger rail operators other than Amtrak, or developers of new intercity passenger rail lines other than Amtrak.

○ One representative will serve an initial three-year term. The other representative will serve an initial two-year term.

• One representative from a state that provides funding for intercity passenger rail (for purposes of ensuring geographic diversity within PRAC's membership, this representative cannot be from the same state as any of the representatives of the commuter rail operators described above, or the representative from a state in which the intercity passenger rail stations are served only by long-distance trains described below).

○ This representative will serve an initial three-year term.

• One representative from a state in which the intercity passenger rail stations are served only by long-distance trains, i.e., passenger trains serving the entirety of routes of more than 750 miles between endpoints (for purposes of ensuring geographic diversity within PRAC's membership, this representative cannot be from the same state as any of the representatives of the commuter rail operators described above or the representative from the state that provides funding for intercity passenger rail described above).

○ This representative will serve an initial two-year term.

• Two representatives from Class I freight railroads.

○ One representative will serve an initial three-year term. The other representative will serve an initial two-year term.

• One representative from a Class II or Class III freight railroad.

○ This representative will serve an initial three-year term.

• One representative from an organized rail labor association.

○ This representative will serve an initial three-year term.

• Two representatives from rail passenger advocacy organizations.

○ One representative will serve an initial three-year term. The other representative will serve a two-year term.

• One representative from a rail shipper or customer advocacy organization or an individual shipper or customer.

○ This representative will serve an initial two-year term.

• Three at-large representatives with relevant experience (including, but not limited to, individuals involved in the design or construction of passenger rail equipment or infrastructure, in the provision of passenger rail analytic or consulting services, in transportation planning, or in transportation-related public policy work).

○ One representative will serve an initial three-year term. The other two representatives will each serve an initial two-year term.

According to revised guidance issued by the Office of Management and Budget, it is permissible for federally registered lobbyists to serve on advisory committees, such as the PRAC, as long as they do so in a representative capacity, rather than an individual capacity. See Revised Guidance on Appointment of Lobbyists to Fed. Advisory Comms., Bds., & Comm'ns, 79 FR 47,482 (Aug. 13, 2014). No honoraria, salaries, travel or per diem are available to members of the PRAC; however, reimbursement for travel expenses may be sought from the Board in cases of hardship.

Nominations for candidates to fill the vacancies should be submitted in letter form and should include: (1) the name, position, and business contact information of the candidate to include email address and phone number; (2) the interest the candidate will represent; (3) a summary of the candidate's experience and qualifications for the position; (4) a representation that the candidate is willing to serve as a member of the PRAC; and, (5) a statement that the candidate agrees to serve in a representative capacity. Candidates may nominate themselves. The Chair is committed to having a committee reflecting diverse communities and viewpoints and strongly encourages the nomination of candidates from diverse backgrounds. Nominations for candidates for membership on the PRAC should be filed with the Board by February 5, 2024. Please note that submissions will be posted publicly on the Board's website under Docket No. EP 774 (Sub-No. 1).

Authority: 49 U.S.C. 1321; 49 U.S.C. 24101.

Decided: December 29, 2023.
By the Board, Mai T. Dinh, Director, Office of Proceedings.
Eden Besera,
Clearance Clerk.

[FR Doc. 2023-28989 Filed 1-3-24; 8:45 am]

BILLING CODE 4915-01-P